ENVIRONMENTAL PROTECTION AGENCY

[ER-FRL-6669-7]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in FR dated April 1, 2005 (70 FR 16815).

Draft EISs

EIS No. 20050360, ERP No. D-AFS-J65454-SD, Bugtown Gulch Mountain Pine Beetle and Fuels Projects, To Implement Multiple Resource Management Actions, Black Hills National Forest, Hell Canyon Ranger District, Custer County, SD.

Summary: EPA has environmental concerns about impacts from runoff, related soil erosion and sediment losses; cumulative impacts from other large scale timber projects to vegetation and wildlife habitat; and adverse impacts to water quality.

Rating EC2

EIS No. 20050370, ERP No. D-AFS-L65494-OR, Middle Fork John Day Range Planning Project, Livestock Grazing Authorization, Implementation, Blue Mountain Range and Prairie City Ranger Districts, Malheur National Forest, Grant County, OR.

Summary: EPA has concerns related to impacts to water qualtiy, aquatic habitiat and ecosystem recovery. EPA requested that “hybrid” alternatives be included that provide greater protections from grazing.

Rating EC2

EIS No. 20050383, ERP No. D-AFS-F65059-IL, Shawnee National Forest Trails Designation Project, Phase 1, Designation, Construction and Maintenance for Trail System within Four Watershed: Eagle Creek, Big Grand Pierre Creek, Lusk Creek and Upper Bay Creek, Hidden Springs Ranger District, Gallatin, Hardin, Johnson, Pope and Saline Counties, IL.

Summary: EPA expressed environmental concerns about reducing trail density standards, weather-related trail closures, and the potential for adverse impacts to water quality.

Rating EC2

EIS No. 20050367, ERP No. DS-NOA-B91026-ME, Atlantic Herring Fishery Management Plan (FWP), Amendment 1, Management Measure Adjustment, Implementation, Gulf of Maine, George Bank, ME.

Summary: EPA had lack of objections to the proposed project.

Rating LO

Final EISs

EIS No. 20050194, ERP No. F-AFS-D65031-PA, Martin Run Project, To Implement Management Direction as Outlined in Allegheny National Forest Plan, Bradford Ranger District, Allegheny National Forest, Warren and McKean Counties, PA.

Summary: EPA had lack of objections to the proposed action.

EIS No. 20050243, ERP No.F-AFS-L65469-OR, West Maurys Fuels and Vegetation Management Project, Prescribed Fire, Commercial and Noncommercial Thinning, Grapple Piling and Hand Piling, Implementation, Lookout Mountain Range District, Ochoco National Forest, Crook County, OR.

Summary: No formal comment letter was sent to the preparing agency.

EIS No. 20050379, ERP No. F-FRA-K53009-CA, California High-Speed Train System, High-Speed Train (HST) System for Intercity Travel, Extend from Sacramento and the San Francisco Bay Area, in the North, through Central Valley, to Los Angeles and San Diego in the South, Orange County, CA.

Summary: EPA's earlier objections regarding potential impacts to resources in the Bay Area to Central Valley area have been addressed by deferring an alignment decision until an additional, more comprehensive environmental analysis can be completed. However, EPA continues to have environmental concerns about the cumulative impact analysis.

EIS No. 20050380, ERP No. F-FHW-E40779-NC, Fayetteville Outer Loop Corridor Study, Transportation Improvement Program (TIP) Cape Fear River, Cumberland, Hoke and Robeson Counties, NC.

Summary: Substantial impact reductions have been accomplished for wetland and stream impacts. However, EPA continues to have environmental concerns about the high numbers of sensitive noise receptors that are impacted, and about the loss of Red-cockaded woodpecker habitat.

EIS No. 20050403, ERP No. F-AFS-K65286-CA, Watdog Project, Proposes to Reduce Fire Hazards, Harvest Trees, Using Group Selection Methods, Feather River Ranger District, Plumas National Forest, Butte and Plumas Counties, CA.

Summary: EPA continued to express concerns about impacts to riparian resources, water quality, soils and wildlife habitat.

EIS No. 20050418, ERP No. F-AFS-K65288-CA, Bald Mountain Project, Proposes to Harvest Trees Using Group and Individual Trees Selection Methods, Feather River Ranger District, Plumas National Forest, Plumas and Butte Counties, CA.

Summary: EPA continues to have concerns about harvest in impaired watersheds with high susceptibility for cumulative watershed effects, and the lack of a timeline or funding certainty for restoration and road decommissioning.

EIS No. 20050431, ERP No. F-FHW-H40181-00, South Omaha Veterans Memorial Bridge Improvements, Across the Missouri River for Highway US-275 between the Cities of Omaha, Nebraska and Council Bluffs, Iowa, NPDES and U.S. Army COE Section 404 Permit, NE and IA.

Summary: No formal comment letter was sent to the preparing agency.

EIS No. 20050434, ERP No. F-FHW-G40169-AR, Springdale Northern Bypass Project, U.S. Highway 412 Construction, Additional Information, Designation of a Preferred Alternative, Funding and NPDES Permit Issuance, Benton and Washington Counties, AR.

Summary: EPA does not object to the proposed action.

EIS No. 20050437, ERP No. F-AFS-G65097-NM, Tajique Watershed Restoration Project, Proposes Fuel Reduction and Restore Forest Health, Cibola National Forest, Torrance County, NM.

Summary: No formal comment letter was sent to the preparing agency.

Dated: November 21, 2005.
Ken Mittelholtz,
Environmental Protection Specialist, Office of Federal Activities.

[FR Doc. 05-23272 Filed 11-23-05; 8:45 am]

BILLING CODE 6560-50-P